DEPARTMENT OF LABOR

Employment and Training Administration

[TA-W-55,499]

Marshall Erdman, Waunakee, WI; Notice of Termination of Investigation

Pursuant to Section 221 of the Trade Act of 1974, as amended, an investigation was initiated on August 23, 2004 in response to a petition filed by the United Brotherhood of Carpenters and Joiners Local 2190 on behalf of workers at Marshall Erdman, Waunakee, Wisconsin.

The petitioning group of workers is covered by an active certification (TA-W-50,208) that remains in effect through March 10, 2005. Consequently, further investigation in this case would serve no purpose, and the investigation has been terminated.

Signed at Washington, DC, this 27th day of August 2004.
Linda G. Poole,
Certifying Officer, Division of Trade Adjustment Assistance.

[FR Doc. E4-2313 Filed 9-21-04; 8:45 am]

BILLING CODE 4510-30-P